DEPARTMENT OF TRANSPORTATION

Federal Aviation Administration

14 CFR Part 39

[Docket No. 2001-NM-359-AD; Amendment 39-14201; AD 2005-15-12]

RIN 2120-AA64

Airworthiness Directives; McDonnell Douglas Model DC-10-10, DC-10-10F, DC-10-15, DC-10-30, DC-10-30F (KC-10A and KDC-10), DC-10-40, DC-10-40F, MD-10-10F, MD-10-30F, MD-11, and MD-11F Airplanes

AGENCY: Federal Aviation Administration, Department of Transportation (DOT).

ACTION: Final rule.

SUMMARY: This amendment adopts a new airworthiness directive (AD), applicable to certain McDonnell Douglas Model DC-10-10, DC-10-10F, DC-10-15, DC-10-30, DC-10-30F (KC-10A and KDC-10), DC-10-40, DC-10-40F, MD-10-10F, MD-10-30F, MD-11, and MD-11F airplanes, that requires performing a functional test of the exterior emergency control handle assemblies of the forward passenger doors, and corrective actions, if necessary. This action is necessary to prevent failure of the forward passenger doors to operate properly in an emergency condition, which could delay an emergency evacuation and possibly result in injury to passengers and flightcrew. This action is intended to address the identified unsafe condition.

DATES: Effective August 30, 2005.

The incorporation by reference of certain publications listed in the regulations is approved by the Director of the Federal Register as of August 30, 2005.

ADDRESSES: The service information referenced in this AD may be obtained from Boeing Commercial Airplanes, Long Beach Division, 3855 Lakewood Boulevard, Long Beach, California 90846, Attention: Data and Service Management, Dept. C1-L5A (D800-0024). This information may be examined at the FAA, Transport Airplane Directorate, 1601 Lind Avenue, SW., Renton, Washington; or at the FAA, Los Angeles Aircraft Certification Office, 3960 Paramount Boulevard, Lakewood, California.

FOR FURTHER INFORMATION CONTACT: Ken Sujishi, Aerospace Engineer, Cabin Safety/Mechanical and Environmental Systems Branch, ANM-150L, FAA, Los Angeles Aircraft Certification Office, 3960 Paramount Boulevard, Lakewood, California 90712-4137; telephone (562) 627-5353; fax (562) 627-5210.

SUPPLEMENTARY INFORMATION: A proposal to amend part 39 of the Federal Aviation Regulations (14 CFR part 39) to include an airworthiness directive (AD) that is applicable to certain McDonnell Douglas Model DC-10-10, DC-10-10F, DC-10-15, DC-10-30, DC-10-30F (KC-10A and KDC-10), DC-10-40, DC-10-40F, MD-10-10F, MD-10-30F, MD-11, and MD-11F airplanes was published as a supplemental notice of proposed rulemaking (NPRM) in the Federal Register on April 22, 2005 (70 FR 20842). That action proposed to require performing a functional test of the exterior emergency control handle assemblies of the forward passenger doors, and corrective actions, if necessary.

Comments

Interested persons have been afforded an opportunity to participate in the making of this amendment. Due consideration has been given to the comments received.

Request To Change Description of Functional Test Criteria

One commenter requests that we revise certain criteria in the functional test description from “noisy operation or binding” to “binding.” The commenter asserts that “noisy operation” is not quantifiable and should not be used to define acceptable parameters of door operation. The commenter states that “binding” is a quantifiable metric that is sufficient to determine satisfactory door operation.

We do not agree with this request. Despite the commenter's assertion, “noisy operation” is a test parameter that is widely used to determine proper operation of mechanisms. If a mechanism is soundless or has a sound that is typical when operating in an acceptable manner, any such mechanism which produces an unusual sound when operated requires investigation to determine if it is in need of repair. In this case, the check for “noisy operation” within the functional test procedure is intended to reveal whether or not a door is approaching a binding condition and requires replacing the steel bearings with bearings made from corrosion-resistant material as specified in the service information. We have not changed the final rule in this regard.

Explanation of Change to Table Designation

The table in paragraph (c) of the proposed AD was erroneously identified as “Table 2—Boeing Service Bulletins.” In fact, there is only one table in the proposed AD; therefore, we have reidentified this table as “Table 1—Boeing Service Bulletins” in paragraph (c) of the final rule. This change has no effect on the technical content of this AD or on the determination of the cost to the public.

Explanation of Change to Service Information Citations

The Boeing service information was not cited properly in paragraph (a) of the proposed AD; those citations were incomplete. Therefore, so operators can determine which service bulletin applies to which affected airplanes, we have included complete citations for Boeing Service Bulletin MD11-52-046, Revision 3, dated October 27, 2004; and Boeing Service Bulletin DC10-52-221, Revision 2, dated October 27, 2004; in paragraph (a) of the final rule.

Conclusion

After careful review of the available data, including the comments noted above, the FAA has determined that air safety and the public interest require the adoption of the rule as proposed, except with the changes discussed above.

Cost Impact

There are approximately 604 airplanes of the affected design in the worldwide fleet. The FAA estimates that 396 airplanes of U.S. registry will be affected by this AD, that it will take approximately 1 work hour per airplane to accomplish the required actions, and that the average labor rate is $65 per work hour. Based on these figures, the cost impact of the proposed AD on U.S. operators is estimated to be $25,740, or $65 per airplane, per operation.

The cost impact figure discussed above is based on assumptions that no operator has yet accomplished any of the requirements of this AD action, and that no operator would accomplish those actions in the future if this AD were not adopted. The cost impact figures discussed in AD rulemaking actions represent only the time necessary to perform the specific actions actually required by the AD. These figures typically do not include incidental costs, such as the time required to gain access and close up, planning time, or time necessitated by other administrative actions.

Authority for This Rulemaking

Title 49 of the United States Code specifies the FAA's authority to issue rules on aviation safety. Subtitle I, section 106, describes the authority of the FAA Administrator. Subtitle VII, Aviation Programs, describes in more detail the scope of the Agency's authority.

We are issuing this rulemaking under the authority described in subtitle VII, part A, subpart III, section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Impact

The regulations adopted herein will not have a substantial direct effect on the States, on the relationship between the national Government and the States, or on the distribution of power and responsibilities among the various levels of government. Therefore, it is determined that this final rule does not have federalism implications under Executive Order 13132.

For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

2005-15-12 McDonnell Douglas: Amendment 39-14201. Docket 2001-NM-359-AD.

Applicability: Model MD-11 and MD-11F airplanes; as identified in Boeing Service Bulletin MD11-52-046, Revision 3, dated October 27, 2004; and Model DC-10-10, DC-10-10F, DC-10-15, DC-10-30, DC-10-30F (KC-10A and KDC-10), DC-10-40, DC-10-40F, MD-10-10F, and MD-10-30F airplanes; as identified in Boeing Service Bulletin DC10-52-221, Revision 2, dated October 27, 2004; certificated in any category.

Compliance: Required as indicated, unless accomplished previously.

To prevent failure of the forward passenger doors to operate properly in an emergency condition, which could delay an emergency evacuation and possibly result in injury to passengers and flightcrew, accomplish the following:

Functional Test

(a) Within 6,000 flight hours or 18 months after the effective date of this AD, whichever occurs later, perform a functional test of the exterior emergency control handle assemblies of the forward passenger doors, by doing all actions specified in Accomplishment Instructions of Boeing Service Bulletin MD11-52-046, Revision 3, dated October 27, 2004 (for Model MD-11 and MD-11F airplanes); or Boeing Service Bulletin DC10-52-221, Revision 2, dated October 27, 2004 (for Model DC-10-10, DC-10-10F, DC-10-15, DC-10-30, DC-10-30F (KC-10A and KDC-10), DC-10-40, DC-10-40F, MD-10-10F, and MD-10-30F airplanes); as applicable.

(1) If the functional test reveals no noisy operation or binding: At intervals not to exceed 6,000 flight hours or 18 months, whichever occurs later, repeat the functional test until the terminating action of paragraph (b) of this AD has been accomplished.

(2) If any functional test required by this AD reveals noisy operation or binding: Prior to further flight, replace the steel bearings with bearings made from corrosion-resistant material, in accordance with the applicable service bulletin.

Optional Terminating Action

(b) Accomplishment of the actions required by paragraph (a)(2) of this AD constitutes terminating action for the repetitive tests required by paragraph (a)(1) of this AD.

Actions Accomplished per Previous Issues of Service Bulletins

(c) Actions accomplished before the effective date of this AD in accordance with the Boeing service bulletins listed in Table 1 of this AD are considered acceptable for compliance with the requirements of paragraph (a) of this AD.

Table 1.—Boeing service bulletins
Boeing service bulletin | Revision | Date of issue
DC10-52-221 | Original | November 5, 2001.
DC10-52-221 | 01 | May 6, 2002.
MD11-52-046 | Original | November 5, 2001.
MD11-52-046 | 01 | May 6, 2002.
MD11-52-046 | 02 | October 8, 2002.

Alternative Methods of Compliance

(d) In accordance with 14 CFR 39.19, the Manager, Los Angeles Aircraft Certification Office, FAA, is authorized to approve alternative methods of compliance (AMOCs) for this AD.

Incorporation by Reference

(e) Unless otherwise specified in this AD, the actions must be done in accordance with Boeing Service Bulletin DC10-52-221, Revision 2, dated October 27, 2004; or Boeing Service Bulletin MD11-52-046, Revision 3, dated October 27, 2004, as applicable. This incorporation by reference was approved by the Director of the Federal Register in accordance with 5 U.S.C. 552(a) and 1 CFR part 51. To get copies of this service information, contact Boeing Commercial Airplanes, Long Beach Division, 3855 Lakewood Boulevard, Long Beach, California 90846, Attention: Data and Service Management, Dept. C1-L5A (D800-0024). To inspect copies of this service information, go to the FAA, Transport Airplane Directorate, 1601 Lind Avenue, SW., Renton, Washington; or to the FAA, Los Angeles Aircraft Certification Office, 3960 Paramount Boulevard, Lakewood, California; or to the National Archives and Records Administration (NARA). For information on the availability of this material at the NARA, call (202) 741-6030, or go to http://www.archives.gov/federal_register/code_of_federal_regulations/ibr_locations.html.

Effective Date

(f) This amendment becomes effective on August 30, 2005.

Issued in Renton, Washington, on July 14, 2005.
Ali Bahrami,
Manager, Transport Airplane Directorate, Aircraft Certification Service.

[FR Doc. 05-14392 Filed 7-25-05; 8:45 am]

BILLING CODE 4910-13-P